DEPARTMENT OF AGRICULTURE

Forest Service

Angeles National Forest; Los Angeles County, CA Williamson Rock/Pacific Crest National Scenic Trail (PCT) Project EIS

AGENCY: Forest Service, USDA.

ACTION: Notice of intent to prepare an Environmental Impact Statement.

SUMMARY: The Angeles National Forest proposes to provide limited, managed recreational activities in the vicinity of Williamson Rock. The proposed action would include allowing access to the Pacific Crest National Scenic Trail (PCT) and limited access to Williamson Rock for rock climbing, while protecting the federally listed mountain yellow-legged frog (MYLF) and other unique resources. The area has been closed to the public since 2006, either by Forest Order or court injunction, to protect the MYLF.

The project was originally proposed as an environmental assessment, and an opportunity for public scoping comments was provided from December 18, 2013 through January 24, 2014. Preliminary issues identified during scoping indicated that there may be significant effects resulting from the proposed action. Responsible official, Forest Supervisor Thomas A. Contreras, has decided to prepare an EIS instead of an EA for this project. The proposed action in the EA has been modified for the EIS.

DATES: Comments on the proposed action should be submitted within 30 days of the date of publication of this Notice of Intent in the Federal Register. The Draft Environmental Impact Statement (EIS) is expected to be available for public review in Spring 2015 and the Final EIS is expected in Fall 2015.

ADDRESSES: You may submit comments by one of the following methods:

• Mailed to the Angeles National Forest; Attn: Jose Henriquez, Williamson Rock/PCT ID Team; 701 N. Santa Anita Avenue, Arcadia, CA 91006;

• Delivered to the address shown above during business hours (M-F 8:00 a.m. to 4:30 p.m.);

• Submitted electronically, in common formats (.doc, .pdf, .rtf, .txt), to: comments-pacificsouthwest-angeles@fs.fed.us with Subject: Williamson Rock.

FOR FURTHER INFORMATION CONTACT: Jose Henriquez, 701 N. Santa Anita Avenue, Arcadia, CA 91006; (626) 574-5277. A scoping package, maps and other information are online at: http://www.fs.fed.us/nepa/nepa_project_exp.php?project=43405.

SUPPLEMENTARY INFORMATION: General Background: Williamson Rock is a well-known High Country recreation area used predominately for rock climbing, located within the Santa Clara-Mojave Rivers Ranger District, in upper Little Rock Canyon. It has been utilized by climbers since the 1960's and is regarded as one of the unique rock climbing resources in southern California, due to its mild summer temperatures and close proximity to urban centers. The Pacific Crest National Scenic Trail (PCT) traverses the project area, paralleling and periodically crossing Little Rock Creek and its tributaries for approximately 2 miles. The mountain yellow-legged frog (Rana muscosa—MYLF) occupies habitat in Little Rock Creek, within the Williamson Rock area. The area is also home to a nesting pair of peregrine falcons (Falco peregrinus), as well as a Forest Service Sensitive plant species, Johnston's buckwheat (Eriogonum microthecum var. johnstonii).

Purpose and Need for Action: The Forest Service continues to receive high demand for the resumption of recreation opportunities in the Williamson Rock area. Specifically, there is a need for the public use and enjoyment of the PCT where it passes through the project area, in accordance with the management objectives specified in the PCTA/Forest Service Memorandum of Understanding and PCT Comprehensive Management Plan. Consistent with the Angeles National Forest Land Management Plan recreation goals and objectives, there is also a need for a quality, sustainable rock climbing opportunity at Williamson Rock.

In achieving these needs, this proposal and any alternatives must achieve the following purposes:

• Provide protective measures for the federally listed MYLF, and the Primary Constituent Elements of the Designated Critical Habitat in the project area.

• Protect other listed or otherwise unique resources in the Williamson Rock area (specifically: Peregrine falcon, Johnston's buckwheat, and an eligible Wild and Scenic River).

• Monitor recreation activity to manage compliance of natural resource protective measures.

Proposed Action: In meeting the needs for action, the following measures are proposed:

1. Implement long-term closure of Little Rock Creek corridor and adjacent areas.

• Implement a long-term closure of the stream corridor (10 meters beyond high water mark) within MYLF Designated Critical Habitat (DCH) and adjacent areas between the stream corridor and CA-2 within Section 12, T. 3N, R. 10W and Section 7, T.3N, R. 11W as shown on maps #1 and #2 (see http://www.fs.fed.us/nepa/nepa_project_exp.php?project=43405). These are areas that have historically provided direct human access into the DCH, or contain climbing routes within the stream habitat. The closure would include all stream-based rock climbing routes (e.g. the “Stream Wall” and “London Wall”), as well as the area of “user-created” braided trails and paths along scree slopes between CA-2 and Williamson Rock. Exceptions to this closure are as follows:

○ Exception: The Pacific Crest National Scenic Trail (PCT) is within the proposed closure area, and would remain open year around (see further discussion of the PCT below).

○ Exception: The Long Trail, a new system trail which would access the Williamson Rock Visitor Use Permit Area, would be within the proposed closure boundaries, and would remain open from August 1 to November 15 to people having a valid Visitor Use Permit (see further discussion of the Long Trail below).

2. Implement a visitor use permit system and seasonal closures for the Williamson Rock Visitor Use Permit Area.

• Designate a day-use Visitor Use Permit Area that encompasses the Williamson Rock Trailhead and parking, the Long Trail, and the Williamson Rock climbing areas as shown on maps #1 and #2 (see http://www.fs.fed.us/nepa/nepa_project_exp.php?project=43405). Visitors to this area would be required to obtain a Visitor Use Permit through the National Recreation Reservation Service (NRRS).

• A seasonal closure of the Visitor Use Permit Area would be implemented from November 16 to July 31, to minimize impacts to MYLF and/or peregrine falcons.

• During the open season (August 1 to November 15), Visitor Use Permits would be reserved in advance through NRRS online or by calling the NRRS toll-free number. Permits would not be issued by local Forest Service offices.

• At least one Forest Service site manager with citation authorization would be onsite each day that the Visitor Use Permit Area is open. Funding for this site management would be provided by a combination of grants, partner contributions, user fees, and federal budget allocations.

• The Forest Service would use the NRRS system to provide permit users with educational information about the area, including regulations, human waste disposal requirements, and resource protection concerns and requirements.

• A limited number of permits would be issued each day, based on site capacity (including parking capacity at the Kratka Ridge parking lot on CA-2). The permit system would be governed by an “either/or” quota mechanism that would initially issue permits each day for no more than 90 persons to access the rock and no more than 30 vehicles (based on available number of parking stalls) to park at the designated trail head.

• The number of visitor use permits issued would be adjusted up or down as determined by an adaptive management process that would consider the following three metrics/indicators:

○ MYLF population reports

○ Permit compliance

○ Available funding for onsite Forest Service management

• Dogs and other domestic animals would be prohibited (PCT exempt), unless they are service animals covered under DOJ 28 CFR Part 35.136—also applies to federal agencies under Section 504.

3. Provide developed recreation facilities to access Williamson Rock.

• Establish a system trail (approximately 1.2 miles in length) to the east side of Williamson Rock from the Kratka Ridge parking lot, partially using abandoned logging road segments and the user-created trail alignment currently referred to as the Long Trail (see map #2 at http://www.fs.fed.us/nepa/nepa_project_exp.php?project=43405).

• The Long Trail would cross Little Rock Creek in two places (referred to in this analysis as the 1st and 2nd crossings). At the 2nd crossing, install a removable 3′-4′ wide by approximately 14′ long stream crossing platform. The platform would be built so that it could be easily removed and re-installed based on the seasonal closure periods. See sample images of platform crossings in the fact sheet posted at http://www.fs.fed.us/nepa/nepa_project_exp.php?project=43405.

• At the 1st stream crossing, materials deposited over several years create an artificial bridge that would continue to be used as a stream crossing. The material keeps people out of the stream, and it has also been determined that removing the material could create more resource damage than if left in place.

• Place interpretive signage and barriers to discourage entry into closure areas and encourage resource protection.

• At the terminus of the Long Trail at Williamson Rock, install an information kiosk displaying a map of the existing climbing routes available for use, site use etiquette and rules, and clearly identified closed areas.

4. Construct Pacific Crest National Scenic Trail bridge.

• Construct a bridge for PCT users at the point where the trail crosses Little Rock Creek within the closure area (SW ¼, Section 12, T. 3N, R. 10W). See map and image of proposed bridge location in the fact sheet posted at http://www.fs.fed.us/nepa/nepa_project_exp.php?project=43405.

5. Manage human waste.

• Removal of human waste would be required in the Williamson Rock Visitor Use Permit Area and along the Long Trail corridor. Permit holders must bag and remove all human waste (feces) and toilet paper, and deposit in a disposal container to be installed at the Kratka Ridge trailhead/parking area. The presence of human waste in these areas would be monitored to determine compliance.

• Install a vault toilet at the Kratka Ridge trailhead/parking area.

• Provide interpretive signing within the Visitor Use Permit Area, trailhead/parking area, and along the Long Trail regarding human waste disposal requirements.

• Hikers on the PCT would be required to deposit human body waste in cat-holes dug at least 100 feet from any surface freshwater source, and to remove toilet paper as trash.

6. Implement botanical resource requirements (Include in all action alternatives).

• Sensitive plant species found within the project area shall be flagged and avoided prior to, and during construction activities.

• (1) All heavy equipment and vegetation maintenance tools (e.g., chain saws, hand clippers, pruners) shall be cleaned prior to entering National Forest System lands. (2) Any transport vehicles that have operated in an off-road area since that vehicle's last washing shall be cleaned prior to entering National Forest System lands.

• Cutting or removal of trees shall be done by or under the direction of a silviculturist.

• Install and maintain appropriate weed free erosion/sediment control measures, as needed per the erosion control plan, throughout the duration of work activities. Wattles or hay bales shall be made of rice straw and netted in biodegradable material.

• If necessary, barriers will be installed or replaced to limit unauthorized off-highway vehicle activity after trail construction activities.

• During the growing season following trail construction, a survey for weed species would be conducted along the trail and associated disturbance areas to ensure that new/expanding weed species are removed/controlled.

7. Prevent access to user-created trails.

• Install natural barriers at access points to user-created trails within the project area, to prevent use and encourage natural regeneration.

• Monitor trespass activity to determine if additional measures would be needed.

8. Develop a monitoring and adaptive management plan.

• A monitoring and adaptive management plan for the closure area and Williamson Rock Visitor User Permit Area would be developed and adopted as a part of implementation, to determine appropriate use levels and seasons over time.

Possible Alternatives: In addition to the proposed action, the EIS will evaluate the required No Action alternative and will likely consider other alternatives identified through the interdisciplinary process and public participation.

Responsible Official: Thomas A. Contreras, Forest Supervisor, Angeles National Forest, Supervisor's Office, 701 N. Santa Anita Avenue, Arcadia, CA 91006.

Nature of Decision to be Made: The responsible official will decide whether to adopt and implement the proposed action, or an alternative to the proposed action, or take no action with respect to the Williamson Rock/PCT project.

Scoping Process

This notice of intent initiates the scoping process, which guides the development of the environmental impact statement. The Forest Service is soliciting comments from federal, state and local agencies and other individuals or organizations that may be interested in or affected by implementation of the proposed project.

Public questions and comments regarding this proposal are an integral part of this environmental analysis process. Input provided by interested and/or affected individuals, organizations and governmental agencies will be used to identify resource issues that will be analyzed in the environmental impact statement. The Forest Service will identify significant issues raised during the scoping process, and use them to formulate alternatives, prescribe mitigation measures and project design features, or analyze environmental effects.

We are particularly interested in hearing about any potential issues, which are defined as points of discussion, dispute, or debate about the effects of the proposed action. Your participation will help the interdisciplinary team develop effective, issue-driven alternatives and mitigations to the proposed action as needed. It is important that reviewers provide their comments at such times and in such a manner that they are useful to the agency's preparation of the environmental impact statement. Therefore, comments should be provided prior to the close of the comment period and should clearly articulate the reviewer's concerns and contentions.

The project was originally proposed as an environmental assessment, and an opportunity for public scoping comments was provided between December 18, 2013 and January 24, 2014. The proposed action in the EA has been modified for the EIS. If you previously commented on the project, your comments have been and will continue to be considered in the development of alternatives. In order to move forward with this project, we ask that you do not repeat your comments. Following alternative development, the Forest Service will be providing another opportunity to comment on the alternatives and analysis. If you have any new comments, we welcome those at this time.

Comments received in response to this solicitation, including names and addresses of those who comment, will be part of the public project record for this proposed action. Comments submitted anonymously will be accepted and considered; however, anonymous comments will not provide the agency with the ability to provide the respondent with subsequent environmental documents.

Dated: July 29, 2014.
Thomas A. Contreras,
Forest Supervisor.

[FR Doc. 2014-18553 Filed 8-5-14; 8:45 am]

BILLING CODE 3411-15-P